POSTAL SERVICE BOARD OF GOVERNORS

Sunshine Act Meeting

Times and Dates: 12:30 p.m., Monday, February 3, 2003; 8:30 a.m., Tuesday, February 4, 2003.

Place: Las Vegas, Nevada, at the Four Seasons Hotel, 3960 Las Vegas Boulevard South, in the Four Seasons Ballroom 4.

Status: February 3—12:30 p.m. (Closed); February 4—8:30 a.m. (Open).

Matters To Be Considered:

Monday, February 3—12:30 p.m. (Closed)

1. Financial Performance.

2. Rate Case Planning.

3. Strategic Planning.

4. Personnel Matters and Compensation Issues.

Tuesday, February 4—8:30 a.m. (Open)

1. Minutes of the Previous Meeting, January 6-7, 2003.

2. Remarks of the Postmaster General and CEO.

3. Appointment of Members to Board Committees.

4. Corporate Flats Strategy.

5. Capital Investment.

a. Labor Scheduler—Phase 1.

6. Pacific Area and Nevada-Sierra District Report.

7. Tentative Agenda for the March 3-4, 2003, meeting in Washington, DC.

FOR FURTHER INFORMATION CONTACT: William T. Johnstone, Secretary of the Board, U.S. Postal Service, 475 L'Enfant Plaza, SW., Washington, DC 20260-1000. Telephone (202) 268-4800.

William T. Johnstone,
Secretary.

[FR Doc. 03-2050 Filed 1-24-03; 2:14 pm]

BILLING CODE 7710-12-M